DEPARTMENT OF THE INTERIOR

Bureau of Land Management

[UT-030-04-1610-PH-241A]

Notice of Resource Advisory Committee Meeting

AGENCY: Grand Staircase-Escalante National Monument (GSENM), Bureau of Land Management (BLM), Department of the Interior.

ACTION: Notice of Grand Staircase-Escalante National Monument Advisory Committee (GSENMAC) Meeting.

SUMMARY: In accordance with the Federal Land Policy and Management Act (FLPMA) and the Federal Advisory Committee Act of 1972 (FACA), the U.S. Department of the Interior, Bureau of Land Management (BLM), Grand Staircase-Escalante National Monument Advisory Committee (GSENMAC) will meet as indicated below.

DATES: A two-day meeting is scheduled for January 6-7, 2004, at the GSENM Headquarters Office, Main Conference Room, 190 E. Center Street, Kanab, Utah. The meetings will begin both days at 8 a.m. and conclude at 5 p.m.

FOR FURTHER INFORMATION: Contact Allysia Angus, Land Use Planner, GSENM Headquarters Office, 190 East Center, Kanab, Utah 84741; phone (435) 644-4364, or email allysia_angus@blm.gov.

SUPPLEMENTARY INFORMATION: The Grand Staircase-Escalante National Monument (GSENM) Advisory Committee will meet at the GSENM Headquarters Office, 190 East Center Street, Kanab, Utah 84741, 8 a.m. to 5 p.m., local time, on January 6, 2004, and 8 a.m. to 5 p.m., January 7, 2004. The Grand Staircase-Escalante National Monument Advisory Committee (GSENMAC) was appointed by the Secretary of Interior on September 26, 2003, pursuant to the Monument Management Plan, the Federal Land Policy and Management Act of 1976 (FLPMA), and the Federal Advisory Committee Act of 1972 (FACA). As specified in the Monument Management Plan, the GSENMAC will have several primary tasks. (1) Review evaluation reports produced by the Management Science Team and make recommendations on protocols and projects to meet overall objectives. (2) Review appropriate research proposals and make recommendations on project necessity and validity. (3) Make recommendations regarding allocation of research funds through review of research and project proposals as well as needs identified through the evaluation process above. (4) Could be consulted on issues such as protocols for specific projects.

This will be the first meeting of the GSENMAC. Topics to be discussed by the GSENMAC include operating procedures, establishing meeting guides, Charter, roles and responsibilities, Federal Advisory Committee Act/Management, selection of a chairperson, Federal travel regulations, forming of subcommittees, facilitation needs, actions taken by BLM to implement the Act, future meeting dates and other matters as may reasonably come before the GSENMAC.

The entire meeting is open to the public. Members of the public are welcome to address the council at 11 a.m., local time on January 7, 2004. Depending on the number of persons wishing to speak, a time limit could be established. Interested persons may make oral statements to the GSENMAC during this time or written statements may be submitted for the GSENMAC's consideration. Written statements can be sent to: Grand Staircase-Escalante National Monument, Attn.: Allysia Angus, 190 E. Center Street, Kanab, UT 84741. Information to be distributed to the GSENMAC is requested 10 days prior to the start of the GSENMAC meeting.

All meetings are open to the public; however, transportation, lodging, and meals are the responsibility of the participating public.

Dated: November 6, 2003.
Dave Wolf,
Acting Grand Staircase-Escalante National Monument Manager.

[FR Doc. 03-28524 Filed 11-13-03; 8:45 am]

BILLING CODE 4310-DQ-M